FEDERAL COMMUNICATIONS COMMISSION

47 CFR Part 64

[CG Docket No. 03-123; WC Docket No. 05-196; WC Docket No. 10-191; FCC 11-123]

Internet-Based Telecommunications Relay Service Numbering

AGENCY: Federal Communications Commission.

ACTION: Final rule.

SUMMARY: In this document, the Federal Communications Commission (Commission) adopts rules to improve assignment of telephone numbers associated with Internet-based Telecommunications Relay Service (iTRS). These rules specifically address Video Relay Service (VRS), which allows individuals with hearing and speech disabilities to communicate using sign language through video equipment, and IP Relay, which allows these individuals to communicate in text using a computer. The final rules set forth in this Order reflect the objectives laid out in the iTRS Toll Free Notice to promote the use of geographically appropriate local numbers, while ensuring that the deaf and hard-of-hearing community has access to toll free telephone numbers that is equivalent to access enjoyed by the hearing community.

DATES: Effective October 27, 2011 except for §§ 64.611(e)(2), 64.611(e)(3), 64.611(g)(1)(v), 64.611 (g)(1)(vi), and 64.613(a)(3), which contain information collection requirements that have not been approved by OMB. The Federal Communications Commission will publish a document in the Federal Register announcing the effective date of the rules that require OMB approval.

ADDRESSES: Interested parties may submit PRA comments identified by OMB Control Number 3060-1089 by any of the following methods: Federal e-Rulemaking Portal: http://www.regulations.gov. Follow the instructions for submitting comments.

• Federal Communications Commission's Web Site: http://www.fcc.gov/cgb/ecfs/. Follow the instructions for submitting comments.

• E-mail: Parties who choose to file by e-mail should submit their comments to PRA@fcc.gov. Please include CG Docket No. 03-123; WC Docket No. 05-196; WC Docket No. 10-191 and OMB Control Number 3060-1089 in the subject line of the message.

• People with Disabilities: Contact the FCC to request reasonable accommodations (accessible format documents, sign language interpreters, CART, etc.) by e-mail: FCC504@fcc.gov or phone: 202-418-0530 or TTY: 202-418-0432.

FOR FURTHER INFORMATION CONTACT: Heather Hendrickson at (202) 418-7295, Wireline Competition Bureau, Competition Policy Division. For additional information concerning the Paperwork Reduction Act information collection requirements contained in this document, send an e-mail to PRA@fcc.gov or contact Judith B. Herman at 202-418-0214.

SUPPLEMENTARY INFORMATION: This is a synopsis of the Commission's Report and Order in CG Docket No. 03-123; WC Docket No. 05-196; WC Docket No. 10-191; FCC 11-123, adopted and released on August 4, 2011. The complete text of this document is available for inspection and copying during normal business hours in the FCC Reference Information Center, Portals II, 445 12th Street, SW., Room CY-A257, Washington, DC 20554. The document may also be purchased from the Commission's duplicating contractor, Best Copy and Printing, Inc., 445 12th Street, SW., Room CY-B402, Washington, DC 20554, telephone (800) 378-3160 or (202) 863-2893, facsimile (202) 863-2898, or via the Internet at http://www.bcpiweb.com. It is also available on the Commission's Web site at http://www.fcc.gov.

In addition to filing comments with the Office of the Secretary, a copy of any comments on the Paperwork Reduction Act information collection requirements contained herein should be submitted to Judith B. Herman, Federal Communications Commission, Room 1-B441, 445 12th Street, SW., Washington, DC 20554, or via the Internet to PRA@fcc.gov.

Paperwork Reduction Act

The Order contains new or modified information collection requirements. The Commission, as part of its continuing effort to reduce paperwork burdens, invites the general public and the Office of Management and Budget (OMB) to comment on the information collection requirements contained in this document, as required by the Paperwork Reduction Act of 1995 (PRA), Public Law 104-13. Public and agency comments are due 60 days after the date of publication of this document in the Federal Register. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

In addition, pursuant to the Small Business Paperwork Relief Act of 2002, Public Law 107-198, see 44 U.S.C. 3506(c)(4), we seek specific comment on how we might “further reduce the information collection burden for small business concerns with fewer than 25 employees.”

Final Regulatory Flexibility Certification

The Regulatory Flexibility Act of 1980, as amended (RFA), requires that a regulatory flexibility analysis be prepared for rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

In this Order, the Commission issues final rules to improve assignment of telephone numbers associated with iTRS. Specifically, these rules are targeted to address VRS, which allows individuals with hearing and speech disabilities to communicate using sign language through video equipment, and IP Relay, which allows these individuals to communicate in text using a computer. The final rules set forth in this Order will satisfy the objective of this proceeding: to encourage use of geographically appropriate local numbers, and ensure that the deaf and hard-of-hearing community has access to toll free telephone numbers that is equivalent to access enjoyed by the hearing community.

With regard to whether a substantial number of small entities will be affected by the requirements set forth in this Order, the Commission notes that only four providers affected by the Order meet the definition of a small entity. The SBA has developed a small business size standard for Wired Telecommunications Carriers, which consists of all such firms having 1,500 or fewer employees. Currently, fifteen providers receive compensation from the Interstate TRS Fund for providing any form of TRS: American Network, AT&T Corp.; CSDVRS; CAC; GoAmerica; Hamilton Relay, Inc.; Hands On; Healinc; Kansas Relay Service, Inc.; Michigan Bell; Nordia Inc.; Snap Telecommunications, Inc; Sorenson; Sprint; and State of Michigan. Because only four of the providers affected by this Order are deemed to be small entities under the SBA's small business size standard, the Commission concludes that the number of small entities affected is not substantial. Moreover, given that all providers affected by the Order, including the four that are deemed to be small entities under the SBA's standard, are entitled to receive prompt reimbursement for their reasonable costs of compliance, the Commission concludes that the Order will not have a significant economic impact on these small entities. Therefore, we certify that requirements set forth in the Order will not have a significant economic impact on a substantial number of small entities.

The Commission will send a copy of the Order, including a copy of this Final Regulatory Flexibility Certification, to the Chief Counsel for Advocacy of the SBA. This final certification will also be published in the Federal Register.

Congressional Review Act

The Commission will send a copy of this Report and Order in a report to be sent to Congress and the Government Accountability Office pursuant to the Congressional Review Act.

Synopsis of Report and Order

1. In this Order, we adopt rules to improve assignment of telephone numbers associated with Internet-based Telecommunications Relay Service (iTRS). These rules specifically address Video Relay Service (VRS), which allows individuals with hearing and speech disabilities to communicate using sign language through video equipment, and IP Relay, which allows these individuals to communicate in text using a computer. The final rules set forth in this Order reflect the objectives laid out in the iTRS Toll Free Notice 75 FR 67333, November 2, 2010: to promote the use of geographically appropriate local numbers, while ensuring that the deaf and hard-of-hearing community has access to toll free telephone numbers that is equivalent to access enjoyed by the hearing community. These objectives, and the rules to implement them, received strong support in the record. Reflecting that record in this Order, we adopt the rules as proposed.

2. In 2008, the Commission instituted a ten-digit numbering plan for iTRS in order to make access by deaf and hard-of-hearing people more functionally equivalent to access enjoyed by the hearing community, as required by section 225 of the Communications Act of 1934, as amended 73 FR 41286, July 18, 2008. The Commission sought to ensure that iTRS users can be reached via telephone, as hearing users can. As a result of that order, most deaf and hard-of-hearing iTRS users have obtained local telephone numbers. Nevertheless, some iTRS providers have continued to assign customers a toll free number in addition to a local number, even if the customer did not request a toll free number.

3. In the iTRS Toll Free Notice, the Commission proposed rules to align the use of local and toll free numbers by iTRS users more closely with the way that hearing users use local and toll free numbers. The Commission's goal was to ensure that an iTRS user's local number is used routinely as the primary telephone number that hearing users dial to reach the deaf or hard-of-hearing user via an iTRS provider, and that deaf and hard-of-hearing users employ for point-to-point calling with other deaf and hard-of-hearing users. In this Order, we adopt those proposed rules, and in doing so we advance the Commission's statutory responsibility to ensure that deaf and hard-of-hearing users are able to communicate in a manner that is “functionally equivalent” to the way in which hearing users communicate.

4. Authority. The Commission has authority, pursuant to sections 225 and 251(e) of the Communications Act of 1934, as amended (the Act), to adopt and implement a system for assigning iTRS users local numbers linked to the NANP. Section 225 requires the Commission to ensure that functionally equivalent TRS be available nationwide to the extent possible and in the most efficient manner, and directs the Commission to adopt regulations to govern the provision and compensation of TRS. Section 251 grants the Commission authority to oversee numbering administration in the United States. Adopting rules to govern the use of toll free numbers by iTRS providers in connection with iTRS services is a continuation of the implementation of the Commission's numbering plan, and is essential to the Commission's goal of making the numbering system used by deaf and hard-of-hearing individuals functionally equivalent to the system used by hearing individuals.

5. Ten-digit numbering plan. The Commission released the First Internet-based TRS Order on June 24, 2008, 73 FR 41286, July 18, 2008, in which it adopted a uniform numbering system for iTRS. Prior to the Commission's numbering plan, there was no uniform numbering system for iTRS, and iTRS users were reached at an IP address, a proxy or alias number, or a toll free number. With respect to toll free numbers, when a hearing user dialed the iTRS user's toll free number, the voice call was routed by the public switched telephone network (PSTN) to the provider that had subscribed to the number and assigned it to a user. Although that toll free number was not linked to a user-specific local number, the provider would translate the toll free number dialed by the hearing user to the iTRS user's IP address in the provider's database. However, until the First Internet-based TRS Order took effect, iTRS providers did not share databases, and therefore, the iTRS user and people calling that user were forced to use the service of the iTRS provider that gave the user the toll free number.

6. In the Second Internet-based TRS Order, released on December 19, 2008, 73 FR 79683, December 30, 2008, the Commission addressed issues raised in a Further Notice of Proposed Rulemaking 73 FR 41307, July 18, 2008, that accompanied the First Internet-based TRS Order. With respect to the use of toll free numbers, the Commission found that, to further the goals of the numbering system, “Internet-based TRS users should transition away from the exclusive use of toll free numbers,” and required all iTRS users to obtain “ten-digit geographically appropriate numbers, in accordance with our numbering system.” The Commission determined, among other things, that local numbers rather than toll free numbers should be used when an iTRS user contacted Public Safety Answering Points (PSAPs). Accordingly, the Commission required that a user's toll free number be mapped to the user's local, geographically appropriate number. Moreover, the Commission found that, because hearing telephone users are responsible for the costs of obtaining and using toll free numbers, functional equivalency dictates that the TRS Fund should not compensate providers for the use of toll free numbers by iTRS users.

7. iTRS Toll Free Issues. In August 2009, the Consumer and Governmental Affairs Bureau and the Wireline Competition Bureau (the Bureaus) released the Toll Free Clarification Public Notice to clarify the requirement, imposed in the Second Internet-based TRS Order, that any toll free number retained or acquired by an iTRS user must be directed to the user's local number in the Service Management System (SMS)/800 database, and that a toll free number and a local number should not be directed to the same Uniform Resource Identifier (URI) in the Internet-based TRS Numbering Directory (iTRS Directory). This action was taken to ensure that the use of toll free numbers by iTRS users would be functionally equivalent to the use of toll free numbers by hearing users. Additionally, the Public Notice acknowledged that certain point-to-point calls, as well as inbound dial-around calls, would require the use of a local number.

8. On September 10, 2009, CSDVRS, a provider of VRS, filed a petition for expedited reconsideration of the Toll Free Clarification Public Notice, claiming, among other things, that the Toll Free Clarification Public Notice violated the Administrative Procedure Act, impeded VRS interoperability, and undermined functional equivalency by eliminating the use of toll free numbers for point-to-point and dial-around calls. Subsequently, the TDI Coalition, which represents deaf and hard-of-hearing iTRS users, filed a Petition for Emergency Stay and a Request to Return to the Status Quo Ante. The TDI Coalition asked the Commission to stay certain portions of the Toll Free Clarification Public Notice, and to direct iTRS providers that had removed toll free numbers from the iTRS Directory to reinstate those numbers to avoid any disruption in service.

9. In response to TDI's concerns that certain point-to-point calls would not be completed, on December 4, 2009, the Bureaus waived the portion of the Toll Free Clarification Public Notice that stated that a toll free number and a local geographic number should not be directed to the same URI in the iTRS Directory. Also, the Bureaus directed iTRS providers that had removed working, assigned toll free numbers that did not point to the iTRS user's local number in the SMS/800 database, in accordance with the Toll Free Clarification Public Notice, to reinstate those toll free numbers to the iTRS Directory. The waiver was designed to give the Commission time to consider the CSDVRS petition for reconsideration as well as iTRS toll free issues generally. The Bureaus also recognized that it would take consumers and certain small businesses time to transition to geographically appropriate local numbers. The Bureaus have issued several extensions of this waiver.

10. iTRS Toll Free Notice. To address the issues raised in response to the Toll Free Clarification Public Notice and to generally improve assignment of telephone numbers associated with iTRS, the Commission issued the iTRS Toll Free Notice. In the Notice, the Commission found that the routine issuance and prevalence of toll free iTRS numbers presented concerns with respect to: (1) Lack of functional equivalency and consumer confusion; (2) emergency calling; (3) lack of number portability and impairment of full competition; (4) number conservation; and (5) costs to the TRS Fund. The Commission, pursuant to its authority under sections 225 and 251 of the Act, proposed rules to address the problems that are caused by the promotion and disproportionately high use of toll free numbers in connection with iTRS services.

11. The Commission emphasized in the iTRS Toll Free Notice that it was not seeking to prevent deaf or hard-of-hearing individuals from obtaining a toll free number, but rather to ensure that toll free numbers do not serve as default personal numbers. The Commission sought comment on ways to ensure that iTRS users who need toll free numbers for business purposes or who wish to obtain a toll free number for personal use are able to do so in the same manner as hearing users. Interested parties, including providers and consumer groups, commented on the iTRS Toll Free Notice and generally supported the Commission's proposed rules.

12. User-Selected Toll Free Use. In the iTRS Toll Free Notice, we proposed to prohibit iTRS providers, acting in the capacity of a user's default number provider, from routinely assigning a new toll free number to the user. We noted that consumer groups representing iTRS users supported this approach and agreed with the Commission on the need to limit or prohibit the distribution of toll free numbers by iTRS providers. The consumer groups continue to support this proposal. The TDI Coalition states that it supports the transition from toll free to geographically appropriate numbers, “as it will (1) reduce confusion, both for service providers and consumers, by making clear the responsibilities of the various parties, and (2) provide that the continued use of toll-free numbers, under specific circumstances, is not prohibited by the Commission.” The TDI Coalition further states that it “do[es] not condone the way some iTRS providers have pushed toll free numbers on consumers, and would prefer that in general, consumers use geographically appropriate ten-digit geographic NANP numbers.” No iTRS provider opposes this proposal. Indeed, CSDVRS—a VRS provider—comments that it “fully supports this measure as a means to meet the Commission's efforts to encourage the use of local ten-digit numbers, rather than toll free numbers.”

13. Sorenson Communications—the largest VRS provider—comments that it “does not automatically assign toll-free numbers to its default users, but instead offers consumers the option of obtaining a toll-free number in addition to their ten-digit local number.” Sorenson further states that “a default user must affirmatively request a toll-free number in order to receive one. Regardless of whether Sorenson or any other iTRS provider assigns toll free numbers “automatically,” we agree with the consumer groups that the widespread assignment of toll free numbers in addition to local numbers continues to cause problems for iTRS users. Therefore, based on the record and consistent with our proposal in the iTRS Toll Free Notice, we revise § 64.611 of the Commission's rules to prohibit iTRS providers from assigning or issuing toll free numbers to users. We expect that requiring an iTRS subscriber to pay for his or her toll free number, and to transfer an already assigned number to a toll free service provider or Responsible Organization (RespOrg) should the subscriber want to keep it, will significantly reduce the number of toll free numbers assigned by iTRS providers.

14. In its comments, Sorenson proposes that iTRS providers be allowed to assign toll free numbers in instances where geographically appropriate numbers are not available. Currently, when a geographically appropriate number is unavailable, an iTRS provider may assign the user a “geographically approximate” number, which is a ten-digit number as close to a user's rate center as possible. Sorenson claims, however, that for these iTRS users, “toll charges can result even for calls placed to the iTRS user by hearing persons—including health care providers, schools, governments and employers—located within the same local calling area.” Sorenson argues that the Commission should therefore waive its rules to permit the assignment of toll free numbers where geographically appropriate numbers are not available.

15. We disagree with Sorenson that a general waiver is appropriate. A general waiver allowing the assignment of toll free numbers where geographically appropriate numbers are not available would undermine the intent of this proceeding to promote the use of geographically appropriate numbers and to provide iTRS customers with access functionally equivalent to that enjoyed by hearing customers. Furthermore, Sorenson does not demonstrate that, where geographically appropriate numbers are not available, toll free numbers, rather than geographically approximate numbers, are necessary to avoid widespread harm to iTRS users. Once the rules we adopt today become effective, iTRS providers may request waivers on a case-by-case basis, where they believe that the assignment of geographically approximate numbers is an inadequate solution.

16. We also note that Jay Carpenter, member of the North American Numbering Council Future of Numbering Working Group, requests that the Commission postpone adopting any rules with respect to the distribution of toll free numbers for iTRS. Mr. Carpenter asserts that issues raised in the iTRS context with respect to toll free numbers are “symptomatic of a general need within the toll free telephone number industry.” Mr. Carpenter requests that we delay this proceeding for six months while the toll free industry has “vetted” a white paper drafted by the North American Numbering Council Future of Numbering Working Group. Although we applaud efforts made by the working group to address issues of the toll free industry, we find that issues raised in the instant proceeding regarding distribution of toll free numbers for iTRS are distinct and severable from those raised in the Commission's general toll free docket, CC Docket No. 95-155.

17. Continuing Use of and Access to Toll Free Numbers. In the iTRS Toll Free Notice, we stated that iTRS users should have the same access to toll free numbers that hearing users have, and that any iTRS user who wants to keep a toll free number that has been issued by an iTRS provider may do so. We proposed a rule requiring that at the user's request, an iTRS provider must facilitate the transfer of the user's toll free number to a direct subscription with a toll free service provider or RespOrg. Under this approach, the iTRS user would become a customer of the toll free service provider, and the iTRS provider that originally provided the toll free number would have no continuing role in administering that number. The consumer groups support this proposal, “so long as those measures do not cause undue disruption to consumer services.” We agree, and we expect that the rules we adopt in this Order can be implemented without significant disruption to the iTRS user. Accordingly, we adopt the rule we proposed in the iTRS Toll Free Notice, which will allow an iTRS user to maintain his or her toll free number by transferring such number to a toll free service subscription.

18. Sorenson asserts that the iTRS Toll Free Notice “does not propose, and should not be interpreted to propose, a prohibition of VRS providers acting as RespOrgs or interexchange carriers, or entering into sales and marketing relationships with RespOrgs or interexchange carriers.” Commission rules do not prohibit iTRS providers from serving as or entering into business relationships with RespOrgs or interexchange carriers. We emphasize, however, that any provision of toll free numbers by iTRS providers must be consistent with the rules that we adopt in this proceeding. Moreover, we will closely monitor the implementation of these rules to ensure that iTRS customers routinely use local numbers as their primary telephone numbers. We will take action, if necessary, to ensure that iTRS providers and other entities do not induce iTRS customers to obtain or maintain toll free numbers. For example, the provision by iTRS providers of toll free numbers or toll free calling at no charge to iTRS customers, or efforts by iTRS providers to market toll free numbers to iTRS customers, would contravene the Commission's goals in this proceeding.

19. No Support for Toll Free Numbers from TRS Fund. The Commission has previously concluded that the costs associated with assigning and providing to iTRS users toll free numbers are not compensable from the TRS Fund. Thus, should an iTRS user choose to transfer his or her toll free number from an iTRS provider to a toll free service provider (or obtain a toll free number directly from a toll free service provider or RespOrg), the user would assume responsibility for all costs associated with the toll free number.

20. The consumer groups agree that iTRS users should pay for their own toll free numbers. CSDVRS also agrees that iTRS users should pay for costs associated with toll free number subscription. Sorenson argues that “[r]equiring consumers to pay for toll-free service is likely to force at least some consumers to relinquish their access to toll-free numbers, thus degrading their service.” We disagree that requiring iTRS users to pay for toll free service would “degrade” service. Rather, this approach is consistent with the functional equivalency requirement of section 225 of the Act because it aligns toll free use by iTRS users with toll free use by hearing customers. We agree with Sorenson that if it is not economically worthwhile for an iTRS user to pay for his or her own toll free number, then he or she will likely relinquish the number. However, this economic decision is no different for deaf and hard-of-hearing users than for hearing consumers.

21. While CSDVRS agrees that iTRS users should be responsible for the costs associated with a toll free number, it suggests that “in the interests of maintaining equal access to the use of toll free numbers by deaf, hard-of-hearing, and deaf-blind individuals * * * the FCC set a minimum allowable price charged to an iTRS consumer for a toll free number at $9.95 per month.” We do not believe, however, that functional equivalency requires the establishment of a minimum allowable price for toll free service to iTRS users when there is no comparable minimum price for toll free service to hearing users. Accordingly, we decline to adopt CSDVRS's proposal.

22. Transfer of Toll Free Numbers. Section 251(e)(1) of the Act grants the Commission exclusive jurisdiction over “those portions of the North American Numbering Plan that pertain to the United States.” The Act also requires the Commission to “ensure the efficient, fair, and orderly allocation of toll-free numbers.” All telephone numbers are a public resource and neither carriers nor subscribers “own” their telephone numbers. Under the Commission's rules, toll free numbers are made available to end users on a first-come, first-served basis unless otherwise directed by the Commission. Several commenters state that in order to effectuate the transfer of the iTRS toll free numbers from the iTRS provider to the toll free service provider, the Commission must waive its first-come, first-served policy.

23. Section 52.111 of the Commission's rules authorizes the Commission to direct assignment of toll free numbers on a basis different than the usual first-come, first-served basis. Moreover, the Commission has authority to waive any provision of its rules for good cause shown. The Commission may exercise its discretion to waive a rule where particular facts would make strict compliance inconsistent with the public interest.

24. To fully implement the Commission's numbering system for iTRS users and to ensure that iTRS users have the same access to toll free numbers as hearing users, we waive the first-come, first-served rule for the limited purpose of enabling those iTRS users who wish to continue to use their existing toll free numbers to do so. Under the ordinary operation of the Commission's numbering rules, when an end user relinquishes a toll free number, that number is returned immediately to the number pool before it is reassigned. Accordingly, under the first-come, first-served rule, when a toll free number is transferred from an iTRS provider to a toll free service provider, the iTRS user may not be able to retain his or her toll free number because the number may be assigned to someone else. To prevent this potential disruption, we waive our first-come, first-served rule, § 52.111 of the Commission's rules, to allow iTRS users to transfer their existing toll free numbers to a toll free service provider. This limited waiver will remain in place during the one-year transition period that we establish in this Order and will thus expire one year after the effective date of this Order. By the time this waiver expires, all iTRS users who want to keep their existing toll free numbers will have had a reasonable opportunity to transfer those numbers to a direct subscription with a toll free service provider.

25. Toll Free Numbers in the iTRS Directory. We proposed in the iTRS Toll Free Notice that if a deaf or hard-of-hearing person obtains a toll free number from a toll free provider, the number would also be mapped to the user's local number in the iTRS Directory. This approach would allow such users to be reached at a toll free number both by other deaf and hard-of-hearing users on direct calls that are completely Internet-based, and by hearing users who “dial around” the user's default provider. The record supports this approach. Accordingly, we adopt the proposal in the iTRS Toll Free Notice and revise § 64.613 of our rules to require that iTRS providers ensure that the toll free number of a user associated with a geographically appropriate NANP number will be associated with the same URI as that geographically appropriate NANP number.

26. This requirement should eliminate problems involving service disruption when toll free numbers are not directly linked to the associated local numbers in the iTRS Directory. We note that Neustar—the administrator for the iTRS Directory—has recommended a process or mapping toll free numbers to local numbers through the Canonical Name (CNAME) Resource Record. Neustar's comments highlight that the mapping function is feasible. The Commission, through its contracting process, will determine the best method to implement its new iTRS toll free rules.

27. We find that adopting this rule addresses the concerns raised in CSDVRS's Petition for Expedited Reconsideration of the Toll Free Clarification Public Notice as well as the TDI Coalition's Petition for Emergency Stay and a Request to Return to the Status Quo Ante. CSDVRS and the TDI Coalition had expressed concern that the Commission's clarification that any toll free number retained or acquired by an iTRS user must be directed to the user's local number in the Service Management System (SMS)/800 database would cause service disruption and undermine functional equivalency for iTRS users. The specific requirement that a toll free number associated with a geographically appropriate NANP number be associated with the same URI as that geographically appropriate NANP number will alleviate any service disruption or problems completing point-to-point calls and therefore, we dismiss these petitions as moot.

28. Transition Period. In the iTRS Toll Free Notice, we proposed a one-year transition period to allow a reasonable period for consumer outreach and education to transition consumers from toll free numbers to local numbers. This proposal was unanimously supported in the record. Specifically, the TDI Coalition commented that the “Commission's proposed transition plan of one year is reasonable, and indeed, necessary.” CSDVRS also agrees with the Commission's one-year transition plan proposal, stating it will “allow ample time for providers to undertake consumer outreach and any necessary technological adjustments.” Sorenson also agrees.

29. Based on the record, we find that a one-year transition is appropriate. During this transition period, the Commission will work diligently to educate iTRS users about the transition plan. We expect that consumer groups and iTRS providers will do the same. We also agree with the consumer groups that this time can be used to allow iTRS users who wish to relinquish their toll free numbers to inform their family, friends and other correspondents that they must be called on their geographic numbers and allow those iTRS users who wish to maintain their toll free number to transition to a toll free subscribership. We therefore adopt the one-year transition period proposed in the iTRS Toll Free Notice. This transition period will expire one year after the effective date of the rules we adopt today. By that date, iTRS providers must remove from the iTRS Directory any toll free number that has not been transferred to a subscription with a toll free service provider and for which the user is the subscriber of record at the end of the transition period. iTRS providers must also, by the end of the transition period, ensure that the toll free number of a user that is associated with a geographically appropriate NANP number is associated with the same URI as that geographically appropriate NANP telephone number in the iTRS Directory.

30. Removing Non-Selected Toll Free Number from the iTRS Directory. In the iTRS Toll Free Notice, we emphasized that an important outcome of this proceeding was to “cleanse” the iTRS Directory of extra or unwanted toll free numbers at the end of the transition period. We proposed that any toll free numbers that have not been mapped to local numbers in the SMS/800 database by a toll free service provider be removed from the iTRS Directory at the end of the transition period. There is support in the record for removing such numbers from the iTRS Directory at the end of the transition period, and no commenter opposed this proposal. Thus, we adopt a rule requiring that iTRS providers, within one year after the effective date of this Order, remove from the iTRS Directory any toll free numbers that have not been mapped to local numbers in the SMS/800 database, and have not been mapped directly to a local number in the iTRS Directory by the iTRS provider.

31. The Commission also sought comment on whether it should establish a process whereby during the transition period, iTRS users who know that they do not want their toll free number(s) could request that those numbers be deleted from the iTRS Directory. Although we received no comment on this specific issue, we find that, should an iTRS user wish to relinquish his or her toll free number at any time during the one-year transition period, the iTRS provider should facilitate the request and delete the number from the iTRS directory. If the user makes an affirmative request, there should be no service disruption. Moreover, such a process will help cleanse the database on an ongoing basis. Thus, we adopt the proposal. We find that this clean-up of the iTRS Directory is not unduly burdensome. Moreover, it will provide the Commission with clearer indications of how relay services are being used to serve the deaf and hard-of-hearing community and the extent to which that community is using toll free numbers.

32. Consumer Outreach. The record in this proceeding reinforces the Commission's view that the success of the Commission's new iTRS toll free numbering rules will be enhanced by outreach efforts by consumer groups, as well as by iTRS providers and the Commission. We recognize that deaf and hard-of-hearing individuals may be accustomed to the current process for obtaining toll free numbers and that any change will require substantial education and outreach. We do not seek to impose overly burdensome obligations on any one sector involved, and seek instead to share the responsibilities, with the highest priority being to fully inform the iTRS community of the transition.

33. We agree with the consumer groups that the iTRS providers are on the “front line” of the outreach effort as they have the most interaction with iTRS users. However, there appears to be disagreement in the record as to whether iTRS providers should be responsible for providing toll free terms and conditions to users. The consumer groups want iTRS providers and toll free service providers to “fully inform the customers of the terms and conditions associated with the use of the toll free number.” Sorenson, on the other hand, argues that unless it “is the toll free consumer's chosen [toll free service] provider, Sorenson should not bear any responsibility for disclosing the terms and conditions associated with the service.”

34. Under the user notification rule we adopt, every iTRS provider must include certain information on its Web site as well as in any promotional materials. Providers must clearly explain, in layman's terms, the process by which a user may acquire a toll free number from a toll free service provider, or transfer a toll free number from an iTRS provider to a toll free service provider or RespOrg. The notification must include contact information for toll free service providers so that users may easily access necessary information. Such contact information will also be available from consumer groups and the Commission. iTRS providers must also provide information on how an iTRS user may request that his toll free numbers be linked to his ten-digit telephone numbers in the iTRS Directory.

35. The Commission will play a significant role in consumer outreach and education efforts. In the iTRS Toll Free Notice, the Commission had asked for comment on how to make information about the availability and use of toll free numbers available to iTRS users, such as fact sheets and Web sites. Commenting consumer groups recommend that iTRS providers' Web sites should “include contact information for the appropriate FCC consumer information portals to provide additional sources of information on the transition plan.” Moreover, CSDVRS suggests that “a central repository of information” be created on the Commission's Web site, along with a posting on all provider Web sites, “similar to that required for E911.” We find both to be useful suggestions. Thus, we conclude that providers must post on their Web sites contact information for toll free service providers. The Commission will also provide this information on its Web site. We encourage consumer groups also to provide this information.

36. Toll Free Waiver Order. Since December 2009, the Commission has waived the portion of the Toll Free Clarification Public Notice that stated that toll free numbers and ten-digit geographic numbers should not be directed to the same URI in the iTRS Directory. The Commission's waiver is set to expire today. We hereby extend the waiver, effective immediately, until February 6, 2012, to allow the rules set forth in this Order to become effective, including the necessary information collection approvals. We find that the rules, once effective, will achieve the policy goals of this proceeding and the Commission's iTRS numbering plan.

37. Accordingly, it is ordered that, pursuant to the authority contained in sections 1, 4(i), 4(j), 225, 251(e), and 255 of the Communications Act of 1934, as amended, 47 U.S.C. 151, 154(i), 154(j), 225, 251(e), and 255, and § 1.3 of the Commission's rules, 47 CFR 1.3, this Report and Order is adopted, and that part 64 of the Commission's rules, 47 CFR part 64, is amended as set forth in Appendix A. The Report and Order shall become effective October 27, 2011 except for §§ 64.611(e)(2), 64.611(e)(3), 64.611(g)(1)(v), 64.611(g)(1)(vi), and 64.613(a)(3), which require approval by OMB under the PRA and which shall become effective after the Commission publishes a notice in the Federal Register announcing such approval and the relevant effective date(s).

38. It is further ordered that, pursuant to sections 1, 4(i), 4(j) and 251(e) of the Communications Act of 1934, as amended, 47 U.S.C. 151, 154(i), 154(j) and 251(e), and §§ 1.3 and 52.111 of the Commission's rules, 47 CFR 1.3 and 52.111, a waiver of the Commission's first-come, first-served rule, 47 CFR 52.111, is granted for a period of one year after the effective date of this Order, to allow iTRS users to transfer their existing toll free numbers to new toll free subscribership.

39. It is further ordered that the Commission's requirement that toll free numbers and ten-digit geographic numbers not be directed to the same URI in the iTRS Directory is waived, effective upon release of this Report and Order, until February 6, 2012.

40. It is further ordered that, pursuant to sections 1, 2, 4(i), 4(j), 225, 251, and 303(r) of the Communications Act of 1934, as amended, 47 U.S.C. 151, 152, 154(i), 154(j), 225, 251, 303(r), the Petition for Expedited Reconsideration filed by CSDVRS LLC on September 10, 2009, in CG Docket No. 03-123, CC Docket No. 98-67, and WC Docket No. 05-196 is dismissed as moot.

41. It is further ordered that, pursuant to sections 1, 2, 4(i), 4(j), 225, 251, and 303(r) of the Communications Act of 1934, as amended, 47 U.S.C. 151, 152, 154(i), 154(j), 225, 251, 303(r), the Petition for Emergency Stay filed by the TDI Coalition in CG Docket No. 03-123, WC Docket No. 05-196 on October 27, 2009 and the Request for Return to the Status Quo Ante filed by the TDI Coalition in CG Docket No. 03-123 and WC Docket No. 05-196 on November 12, 2009 are dismissed as moot.

42. It is further ordered that the Commission's Consumer and Governmental Affairs Bureau, Reference Information Center, shall send a copy of this Report and Order, including the Final Regulatory Flexibility Analysis, to the Chief Counsel for Advocacy of the Small Business Administration.

List of Subjects in 47 CFR Part 64

Telecommunications.

Federal Communications Commission
Marlene H. Dortch,
Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 154, 254(k), 227; secs. 403(b)(2)(B)(c), Pub. L. 104-104, 100 Stat. 56. Interpret or apply 47 U.S.C. 201, 218, 222, 225, 226, 228, and 254(k) unless otherwise noted.

2. Section 64.611 is amended by:

a. Redesignating paragraphs (e) and (f) as paragraphs (f) and (g);

b. Adding a new paragraph (e);

c. Removing “and” from the end of newly designated paragraph (g)(1)(iii);

d. Removing the period from the end of newly designated paragraph (g)(1)(iv) and adding “;” in its place; and

e. Adding paragraphs (g)(1)(v) and (g)(1)(vi) to read as follows:

§ 64.611 Internet-based TRS registration.

* * * * *

(e) Toll free numbers. A VRS or IP Relay provider:

(1) May not assign or issue a toll free number to any VRS or IP Relay user.

(2) That has already assigned or provided a toll free number to a VRS or IP Relay user must, at the VRS or IP Relay user's request, facilitate the transfer of the toll free number to a toll free subscription with a toll free service provider that is under the direct control of the user.

(3) Must within one year after the effective date of this Order remove from the Internet-based TRS Numbering Directory any toll free number that has not been transferred to a subscription with a toll free service provider and for which the user is the subscriber of record.

* * * * *

(g) * * *

(1) * * *

(v) The process by which a VRS or IP Relay user may acquire a toll free number, or transfer control of a toll free number from a VRS or IP Relay provider to the user; and

(vi) The process by which persons holding a toll free number request that the toll free number be linked to their ten-digit telephone number in the TRS Numbering Directory.

* * * * *

3. Section 64.613(a) is amended by revising paragraphs (a)(1) and (a)(2), redesignating paragraph (a)(3) as paragraph (a)(4) and adding a new paragraph (a)(3) to read as follows:

§ 64.613 Numbering directory for Internet-based TRS users.

(a) * * *

(1) The TRS Numbering Directory shall contain records mapping the geographically appropriate NANP telephone number of each Registered Internet-based TRS User to a unique Uniform Resource Identifier (URI).

(2) For each record associated with a VRS user's geographically appropriate NANP telephone number, the URI shall contain the IP address of the user's device. For each record associated with an IP Relay user's geographically appropriate NANP telephone number, the URI shall contain the user's user name and domain name that can be subsequently resolved to reach the user.

(3) Within one year after the effective date of this Order, Internet-based TRS providers must ensure that a user's toll free number that is associated with a geographically appropriate NANP number will be associated with the same URI as that geographically appropriate NANP telephone number.

* * * * *

[FR Doc. 2011-23824 Filed 9-26-11; 8:45 am]

BILLING CODE 6712-01-P